DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Ecosystem Based Fishery Management (EBFM) and Herring Committees to consider actions affecting New England fisheries in the exclusive economic zone (EEZ). Recommendations from these groups will be brought to the full Council for formal consideration and action, if appropriate.

DATES: This meeting will be held on Tuesday, June 2, 2015 at 9 a.m.

ADDRESSES: Meeting address: The meeting will be held at the Holiday Inn, 300 Woodbury Avenue, Portsmouth, NH 03801; telephone: (603) 431-8000; fax: (603) 501-3733.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The committees plan to review and discuss scientific advice developed by the EBFM Plan Development Team (PDT) on Atlantic herring control rules considering its role in the ecosystem and as a forage species. Related input will also be provided by the Scientific and Statistical Committee (SSC). The Joint Committee may develop recommendations on how to apply this advice for Amendment 8 to the Herring FMP. They will also be reviewing Amendment 8 scoping comments and discuss Amendment 8 goals and objectives; develop further guidance and related recommendations. The committees will also review and discuss results from the Atlantic herring operational assessment, including comments/recommendations from the May 20, 2015 SSC meeting; develop recommendations. Additionally, the Herring Committee will convene a closed session to review Advisory Panel applications and nominate individuals to fill open seats on the Herring Advisory Panel. The committee will discuss other business as necessary.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 13, 2015.
Tracey L. Thompson,
Acting Deputy Director, Office of Sustainable Fisheries, National Marine Fisheries Service.

[FR Doc. 2015-11949 Filed 5-15-15; 8:45 am]

BILLING CODE 3510-22-P